Proclamation 7879 of April 1, 2005

National Donate Life Month, 2005

By the President of the United States of America

A Proclamation

America's health care system is the best in the world. We are blessed with skilled doctors and medical professionals, advances in technology, and countless organ, tissue, and bone marrow donors who help save lives. During National Donate Life Month, we continue to work to raise donation awareness, help people get the information they need to become donors, and recognize those who have chosen to donate.

Organ donors share the precious gift of life with others and demonstrate the compassionate spirit of our Nation. Most people are eligible to donate organs, tissue, or bone marrow. They can join the donor registry in their State, indicate donations on their driver's license, or complete and carry a donor card. Through these measures, Americans help others in need to live longer and healthier lives.

My Administration remains committed to increasing organ and tissue donation. Over the past 4 years, more than 10,500 organizations have joined the Department of Health and Human Services' “Gift of Life Donation Initiative” and made donation information available to their employees, associates, and members. My fiscal year 2006 budget proposal includes $23 million for donation and transplant services at HHS and an additional $23 million for the National Bone Marrow Donor Registry. These programs will help increase donation rates, treat patients in need, and strengthen efforts to find suitable bone marrow donors.

During National Donate Life Month, I join our citizens in honoring donors and their families. The generosity of these individuals reflects the great character of our country and sets a fine example for all Americans.

NOW, THEREFORE, I, GEORGE W. BUSH, President of the United States of America, by virtue of the authority vested in me by the Constitution and laws of the United States, do hereby proclaim April 2005 as National Donate Life Month. I urge health care professionals, volunteers, educators, government agencies, and private organizations to help raise awareness of the need for organ and tissue donors across our Nation.

IN WITNESS WHEREOF, I have hereunto set my hand this first day of April, in the year of our Lord two thousand five, and of the Independence of the United States of America the two hundred and twenty-ninth.

B

[FR Doc. 05-6905

Filed 4-4-05; 10:49 am]

Billing code 3195-01-P